DEPARTMENT OF COMMERCE

Foreign-Trade Zones Board

[S-103-2018]

Foreign-Trade Zone 93—Raleigh/Durham, North Carolina; Application for Subzone; MAS US Holdings, Inc.; Siler City and Asheboro, North Carolina

An application has been submitted to the Foreign-Trade Zones (FTZ) Board by the Triangle J Council of Governments, grantee of FTZ 93, requesting subzone status for the facilities of MAS US Holdings, Inc., located in Siler City and Asheboro, North Carolina. The application was submitted pursuant to the provisions of the Foreign-Trade Zones Act, as amended (19 U.S.C. 81a-81u), and the regulations of the FTZ Board (15 CFR part 400). It was formally docketed on July 23, 2018.

The proposed subzone would consist of the following sites: Site 1 (40.4 acres) 1311 Eleventh Street, Siler City, Chatham County; Site 2 (21.74 acres) 601 East Pritchard Street, Asheboro, Randolph County; and, Site 3 (3.46 acres) 162 North Cherry Street, Asheboro, Randolph County. No authorization for production activity has been requested at this time. The proposed subzone would be subject to the existing activation limit of FTZ 93.

In accordance with the FTZ Board's regulations, Kathleen Boyce of the FTZ Staff is designated examiner to review the application and make recommendations to the Executive Secretary.

Public comment is invited from interested parties. Submissions shall be addressed to the FTZ Board's Executive Secretary at the address below. The closing period for their receipt is September 5, 2018. Rebuttal comments in response to material submitted during the foregoing period may be submitted during the subsequent 15-day period to September 20, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Kathleen Boyce at Kathleen.Boyce@trade.gov or (202) 482-1346.

Dated: July 23, 2018.
Elizabeth Whiteman,
Acting Executive Secretary.

[FR Doc. 2018-16077 Filed 7-26-18; 8:45 am]

BILLING CODE 3510-DS-P